DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 17, 2009. Address written comments to Statutory Import Programs Staff, Room 3720, U.S. Department of Commerce, Washington, DC 20230. Applications may be examined between 8:30 a.m. and 5 p.m. at the U.S. Department of Commerce in Room 3720.

Docket Number: 09-001. Applicant: Childrens Hospital, 4650 Sunset Boulevard, Los Angeles, CA 90027. Instrument: Transmission Electron Microscope. Manufacturer: FEI Company, Czech Republic. Intended Use: The instrument will be used for the study of ultrastructural changes in human and animal tissue and tissue culture samples in various disease processes and experimental conditions. Justification for Duty-Free Entry: Instrument is not manufactured by any company in the United States. Application accepted by Commissioner of Customs: January 30, 2009.

Docket Number: 09-002. Applicant: U.S. Environmental Protection Agency, Acquisition Management Unit, TMS, R8, 1595 Winkoop Street, Denver, CO 80202. Instrument: Transmission Electron Microscope. Manufacturer: JEOL Ltd., Japan. Intended Use: The instrument will be used for qualitative and quantitative analysis of asbestos in air, dust, soil, water and biological sample matrices. Justification for Duty-Free Entry: No instruments available domestically with the capabilities required for the intended use. Application accepted by Commissioner of Customs: February 5, 2009.

Docket Number: 09-003. Applicant: U.S. Food and Drug Administration, Center for Food Safety & Applied Nutrition, 8301 MuirKirk Road, Laurel, MD 20708. Instrument: Transmission Electron Microscope. Manufacturer: JEOL Ltd., Japan. Intended Use: The instrument will be used for evaluation of biological specimens for the expression of microbial structures important in the causation of disease. Justification for Duty-Free Entry: No domestic suppliers of transmission electron microscopes. Application accepted by Commissioner of Customs: February 5, 2009.

Dated: February 20, 2009.
Chris Cassel,
Acting Director, IA Subsidies Enforcement Office.

[FR Doc. E9-4029 Filed 2-24-09; 8:45 am]

BILLING CODE 3510-DS-P